DEPARTMENT OF JUSTICE

Antitrust Division

Notice Pursuant to the National Cooperative Research and Production Act of 1993—Information Storage Industry Consortium—Heat Assisted Magnetic Recording

Notice is hereby given that, on June 9, 2004, pursuant to section 6(a) of the National Cooperative Research and Production Act of 1993, 15 U.S.C. 4301 et seq. (“the Act”), Information Storage Industry Consortium (“INSIC”) has filed written notifications on behalf of a joint research and development venture with Heat Assisted Magnetic Recording (“HAMR”) simultaneously with the Attorney General and the Federal Trade Commission disclosing changes in its membership status. The notifications were filed for the purpose of extending the Act's provisions limiting the recovery of antitrust plaintiffs to actual damages under specified circumstances. Specifically, National Storage Industry Consortium, San Diego, CA has changed its name to Information Storage Industry Consortium, San Diego, CA. Also, a seventh participant has joined the INSIC-HAMR Project: specifically, the Regents of the University of Minnesota on behalf of the University of Minnesota, Minneapolis, MN.

No other changes have been made in either the membership or planned activity of the group research project. Membership in this group research project remains open, and INSIC-HAMR intends to file additional written notifications disclosing all changes in membership.

On January 8, 2002, INSIC-HAMR filed its original notification pursuant to section 6(a) of the Act. The Department of Justice published a notice in the Federal Register pursuant to section 6(b) of the Act on March 8, 2002 (67 FR 10761).

Dorothy B. Fountain,
Deputy Director of Operations, Antitrust Division.

[FR Doc. 04-17996 Filed 8-5-04; 8:45 am]

BILLING CODE 4410-11-M